DEPARTMENT OF HEALTH AND HUMAN SERVICES

Centers for Medicare & Medicaid Services

[Document Identifier: CMS-10368]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection (request for a new OMB control number); Title of Information Collection: Dental Action Plan Template for Medicaid and CHIP Programs; Use: CMS is responsible for administering the Federal Medicaid program and the Children's Health Insurance Program (CHIP). As part of the Federal Medicaid program, CMS oversees the Early and Periodic Screening, Diagnostic, and Treatment (EPSDT) benefit to assure that all requirements are met. The provision of dental services to EPSDT-eligible individuals is required under section 1905(r)(3) of the Social Security Act. In addition, section 1902(a)(43)(D)(iii) requires that CMS collect information on dental services furnished to eligible individuals. Section 501(e) of CHIPRA imposed new data reporting requirements for the CHIP program by requiring certain dental data to be reported in 2011 on the CHIP annual report. Dental data for CHIP is unavailable as the requirement to report this data is new for CHIP programs. CMS intends to use the information provided in the template to help inform us of the States' activities undertaken to achieve the national oral health goals for Medicaid and CHIP. CMS will use the information to routinely follow-up with States on the achievement of their goals and activities and will share that information with other States. The template has been revised since the publication of the 60-day notice by clarifying instructions and by making minor changes. The supporting documents have not been changed; Form No.: CMS-10368 (OCN 0938-NEW); Frequency: Once; Affected Public: State, Local, or Tribal Governments; Number of Respondents: 69; Total Annual Responses: 69; Total Annual Hours: 4,485. (For policy questions regarding this collection contact Cindy Ruff at (410) 786-5916. For all other issues call (410) 786-1326.)

To obtain copies of the supporting statement and any related forms for the proposed paperwork collections referenced above, access CMS Web site address at http://www.cms.hhs.gov/PaperworkReductionActof1995, or email your request, including your address, phone number, OMB number, and CMS document identifier, to Paperwork@cms.hhs.gov, or call the Reports Clearance Office on (410) 786-1326.

To be assured consideration, comments and recommendations for the proposed information collections must be received by the OMB desk officer at the address below, no later than 5 p.m. on January 23, 2012. OMB, Office of Information and Regulatory Affairs, Attention: CMS Desk Officer, Fax Number: (202) 395-6974, email: OIRA_submission@omb.eop.gov.

Dated: December 16, 2011.
Martique Jones,
Director, Regulations Development Group, Division-B, Office of Strategic Operations and Regulatory Affairs.

[FR Doc. 2011-33098 Filed 12-22-11; 8:45 am]

BILLING CODE 4120-01-P